DEPARTMENT OF AGRICULTURE

Animal and Plant Health Inspection Service

9 CFR Part 94

[Docket No. APHIS-2006-0010]

Add Kazakhstan, Romania, Russia, Turkey, and Ukraine To List of Regions In Which Highly Pathogenic Avian Influenza Subtype H5N1 is Considered To Exist

AGENCY: Animal and Plant Health Inspection Service, USDA.

ACTION: Affirmation of interim rule as final rule.

SUMMARY: We are adopting as a final rule, without change, an interim rule that amended the regulations concerning the importation of animals and animal products by adding Kazakhstan, Romania, Russia, Turkey, and Ukraine to the list of regions in which highly pathogenic avian influenza (HPAI) subtype H5N1 is considered to exist. We took that action because there have been outbreaks of HPAI subtype H5N1 in those countries. The interim rule was necessary to prevent the introduction of HPAI subtype H5N1 into the United States.

DATES: Effective on May 18, 2006, we are adopting as a final rule the interim rule that became effective on February 7, 2006.

FOR FURTHER INFORMATION CONTACT: Dr. Julie Garnier, Staff Veterinarian, Technical Trade Issues Team, National Center for Import and Export, VS, APHIS, 4700 River Road Unit 39, Riverdale, MD 20737-1231; (301) 734-5677.

SUPPLEMENTARY INFORMATION:

Background

The regulations in 9 CFR parts 93, 94, and 95 (referred to below as the regulations) govern the importation of certain animals, birds, poultry, meat, other animal products and byproducts, hay, and straw into the United States in order to prevent the introduction of various animal diseases, including highly pathogenic avian influenza (HPAI) subtype H5N1.

In an interim rule effective on February 7, 2006, and published in the Federal Register on February 13, 2006 (71 FR 7401-7402, Docket No. APHIS-2006-0010), we amended the regulations in part 94 by adding Kazakhstan, Romania, Russia, Turkey, and Ukraine to the list in § 94.6(d) of regions where HPAI subtype H5N1 exists.

Comments on the interim rule were required to be received on or before April 14, 2006. We received one comment by that date, from a private citizen. The commenter supported the interim rule. Therefore, for the reasons given in the interim rule, we are adopting the interim rule as a final rule.

This action also affirms the information contained in the interim rule concerning Executive Order 12866 and the Regulatory Flexibility Act, Executive Order 12988, and the Paperwork Reduction Act.

Further, for this action, the Office of Management and Budget has waived its review under Executive Order 12866.

List of Subjects in 9 CFR Part 94

Animal diseases, Imports, Livestock, Meat and meat products, Milk, Poultry and poultry products, Reporting and recordkeeping requirements.

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

Accordingly, we are adopting as a final rule, without change, the interim rule that amended 9 CFR part 94 and that was published at 71 FR 7401-7402 on February 13, 2006.

Done in Washington, DC, this 12th day of May 2006.
Kevin Shea,
Acting Administrator, Animal and Plant Health Inspection Service.

[FR Doc. 06-4650 Filed 5-17-06; 8:45 am]

BILLING CODE 3410-34-P